DEPARTMENT OF ENERGY

[OE Docket No. EA-410-B]

Application To Export Electric Energy; CWP Energy, Inc.

AGENCY: Office of Electricity, Department of Energy.

ACTION: Notice of application.

SUMMARY: CWP Energy, Inc. (Applicant or CWP Energy) has applied for authorization to transmit electric energy from the United States to Canada pursuant to the Federal Power Act.

DATES: Comments, protests, or motions to intervene must be submitted on or before November 30, 2020.

ADDRESSES: Comments, protests, motions to intervene, or requests for more information should be addressed by electronic mail to Electricity.Exports@hq.doe.gov, or by facsimile to (202) 586-8008.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (16 U.S.C. 824a(e)).

On October 13, 2020, CWP Energy filed an application with DOE (Application or App.) to transmit electric energy from the United States to Canada for a term of five years. CWP Energy represents that it is a subsidiary of McGill-St. Laurent, a Canada Corporation with its principal place of business in Montréal, Québec, Canada. The Applicant adds that “McGill-St. Laurent and its division CWP Energy, Inc., is owned by two individuals, Mr. Phillipe Boisclair, as a majority owner and Mr. Christian L'Abbe as a minority owner.” App. at 2. CWP Energy adds that “Mr. Boisclair and Mr. L'Abbe do not have any ownership interest or involvement in any other company that is a traditional utility or that owns, operates, or controls any electric generation, transmission or distribution facilities, nor do they have any direct involvement with the energy industry other than through the ownership of CWP Energy.” Id.

CWP Energy further states that it “will purchase power to be exported from a variety of sources such as power marketers, independent power producers, or U.S. electric utilities and federal power marketing entities as those terms are defined in Sections 3(22) and 3(19) of the FPA.” App. at 3. CWP Energy contends that any power it purchases for export would be “surplus to the system of the generator and, therefore, the electric power that [it] will export on either a firm or interruptible basis will not impair the sufficiency of the electric power supply within the U.S.” Id. at 3-4.

CWP Energy states that it will “abide by the general conditions consistent with DOE's previous grants of authorization to power marketers as set forth in its previous orders.” App. at 4. It also represents that its exports “will not exceed the export limits for the facilities, or otherwise cause a violation of the terms and conditions set forth in the export authorizations for each.” Id. at 5.

The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214).

Comments and other filings concerning CWP Energy's application to export electric energy to Canada should be clearly marked with OE Docket No. EA-410-B. Additional copies are to be provided directly to Ruta Kalvaitis Skučas, 1875 K St. NW, Suite 700, Washington, DC 20006, rskucas@pierceatwood.com; Pascal Massey, 407 McGill Street, Suite 315, Montreal, PQ, H2Y 2G3, Pascal@canadianwood.ca.

A final decision will be made on the Application after the environmental impacts have been evaluated pursuant to DOE's National Environmental Policy Act Implementing Procedures (10 CFR part 1021) and after DOE determines that the proposed action will not have an adverse impact on the sufficiency of supply or reliability of the U.S. electric power supply system.

Copies of the Application will be made available, upon request, by accessing the program website at http://energy.gov/node/11845, or by emailing Matthew Aronoff at matthew.aronoff@hq.doe.gov.

Signed in Washington, DC, on October 26, 2020.
Christopher Lawrence,
Management and Program Analyst, Transmission Permitting and Technical Assistance, Office of Electricity.

[FR Doc. 2020-24027 Filed 10-29-20; 8:45 am]

BILLING CODE 6450-01-P